COMMITTEE FOR PURCHASE FROM PEOPLE WHO ARE BLIND OR SEVERELY DISABLED

Procurement List; Additions

AGENCY: Committee for Purchase From People Who Are Blind or Severely Disabled.

ACTION: Additions to procurement list.

SUMMARY: This action adds to the Procurement List services to be furnished by nonprofit agencies employing persons who are blind or have other severe disabilities.

DATES: Effective Date: May 15, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703)603-0655, or e-mail SKennerly@jwod.gov.

SUPPLEMENTARY INFORMATION: On February 11, 2005, the Committee for Purchase From People Who Are Blind or Severely Disabled published notice (70 F.R. 7230) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Grounds Maintenance, VA Medical Center, 4101 Woolworth Avenue, Omaha, Nebraska.

NPA: Goodwill Specialty Services, Inc., Omaha, Nebraska.

Contracting Activity: VA Medical Center Nebraska-W. Iowa Health Care Sys, Omaha, Nebraska.

Service Type/Location: Medical Transcription, Veterans Affairs Medical Center, Loma Linda, Loma Linda, California.

NPA: National Telecommuting Institute, Inc., Boston, Massachusetts.

Contracting Activity: VA Network Business Center (664/NBC/MP), San Diego, California.

Service Type/Location: Medical Transcription, Veterans Affairs Medical Center, Long Beach, Long Beach, California.

NPA: National Telecommuting Institute, Inc., Boston, Massachusetts.

Contracting Activity: VA Network Business Center (664/NBC/MP), San Diego, California.

Service Type/Location: Medical Transcription, Veterans Affairs Medical Center, San Diego, San Diego, California.

NPA: National Telecommuting Institute, Inc., Boston, Massachusetts.

Contracting Activity: VA Network Business Center (664/NBC/MP), San Diego, California.

This action does not affect current contracts awarded prior to the effective date of this addition or options that may be exercised under those contracts.

Patrick Rowe,
Deputy Executive Director.

[FR Doc. 05-7568 Filed 4-14-05; 8:45 am]

BILLING CODE 6353-01-P